DEPARTMENT OF TRANSPORTATION

Federal Aviation Administration

First Meeting, Special Committee 211, Nickel-Cadmium, Lead Acid and Rechargeable Lithium Batteries

AGENCY: Federal Aviation Administration (FAA), DOT.

ACTION: Notice of RTCA Special Committee 211, Nickel-Cadmium, Lead Acid and Rechargeable Lithium Batteries.

SUMMARY: The FAA is issuing this notice to advise the public of a first meeting of RTCA Special Committee 211, Nickel-Cadmium, Lead Acid and Rechargeable Lithium Batteries.

DATES: The meeting will be held August 22-23, 2006, from 9 a.m.-5 p.m.

ADDRESSES: The meeting will be held at RTCA, Inc., 1828 L Street, NW., Suite 805, Washington, DC 20036.

FOR FURTHER INFORMATION CONTACT: RTCA Secretariat, 1828 L Street, NW., Suite 805, Washington, DC, 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 209 meeting. The Special Committee 211 task is to revise DO-293—Minimum Operational Performance Standards for Nickel-Cadmium and Lead Acid Batteries and will develop Minimum Operational Performance Standards for Rechargeable Lithium Batteries. The committee will address the design, performance, operational and testing issues associated with Special Committee 211. The chairmen are: William Johnson, U.S. Navy and Hector Silberman, The Boeing Company. The agenda will include:

• August 22:

• Opening Plenary Session (Welcome, Introductions, and Administrative Remarks, Agenda Overview)

• RTCA Overview

• Previous Battery Committee History

• Current Committee Scope, Terms of Reference Overview

○ Presentation, Discussion, Recommendations

• Review and Resolve Existing Comments to DO-293

• August 23:

• Agenda Overview

• Discuss and decide if the Lithium Rechargeable Batteries Special Requirements can be added to DO-293 or a new separated standards as needed.

• Discussion, Recommendations. Evaluation of the task scope and schedule.

○ Organization of Work, Assign Tasks, and Workgroups

○ Assignment of Responsibilities

• Closing Plenary Session (Other Business, Establish Agenda, Date and Place of Next Meeting, Adjourn).

Attendance is open to the interested public but limited to space availability. Pre-Registration for this meeting is not required for attendance but is desired and can be done through the RTCA secretariat. With the approval of the chairmen, members of the public may present oral statements at the meeting. Persons wishing to present statements or obtain information should contact the person listed in the FOR FURTHER INFORMATION CONTACT section. Members of the public may present a written statement to the committee at any time.

Issued in Washington, DC, on July 20, 2006.
Francisco Estrada C.,
RTCA Advisory Committee.

[FR Doc. 06-6508 Filed 7-26-06; 8:45 am]

BILLING CODE 4910-13-M